DEPARTMENT OF ENERGY

Federal Energy Regulatory Commission

[Docket No. RP00-559-001]

Reliant Energy Gas Transmission Company; Notice of Proposed Changes in FERC Gas Tariff

September 28, 2000.

Take notice that on September 25, 2000, Reliant Energy Gas Transmission Company (REGT) tendered for filing as part of its FERC Gas Tariff, Fifth Revised Volume No. 1, the following tariff sheets to be effective November 1, 2000:

First Revised Sheet No. 10

Original Revised Sheet No. 15

REGT states that these tariff sheets were inadvertently omitted from its filing on September 22, 2000 to implement an in-kind option for Shippers electing service under REGT's Rate Schedule ANS.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

David P. Boergers,
Secretary.

[FR Doc. 00-25413 Filed 10-3-00; 8:45 am]

BILLING CODE 6717-01-M